DEPARTMENT OF COMMERCE

National Oceanic and Atmospheric Administration

Gulf of Mexico Fishery Management Council; Public Meetings

AGENCY: National Marine Fisheries Service (NMFS), National Oceanic and Atmospheric Administration (NOAA), Commerce.

ACTION: Notice; public hearings and webinar.

SUMMARY: The Gulf of Mexico Fishery Management Council (Council) will hold nine public hearings and one webinar to solicit public comments on Coastal Migratory Pelagics (CMP) Amendment 26—Changes in Allocations, Stock Boundaries and Sale Provisions for Gulf of Mexico and Atlantic Migratory Groups of King Mackerel; and a Framework Action to Modify Commercial Gear Requirements for Yellowtail Snapper (in Key West and Sarasota, FL only).

DATES: The public hearings will be held February 22-March 3, 2016. The meetings will begin at 6 p.m. and will conclude no later than 9 p.m. For specific dates and times, see SUPPLEMENTARY INFORMATION. Written public comments must be received on or before 5 p.m. EST on Friday, March 4, 2016.

ADDRESSES: The public documents can be obtained by contacting the Gulf of Mexico Fishery Management Council, 2203 N. Lois Avenue, Suite 1100, Tampa, FL 33607; (813) 348-1630 or on their Web site at www.gulfcouncil.org.

Meeting addresses: The public hearings will be held in Destin, Sarasota and Key West, FL; Corpus Christi and Texas City, TX; Pascagoula, MS; Orange Beach, AL; Kenner, LA; and one webinar. For specific locations, see SUPPLEMENTARY INFORMATION.

Public comments: Comments may be submitted online through the Council's public portal by visiting www.gulfcouncil.org and clicking on “CONTACT US”.

FOR FURTHER INFORMATION CONTACT: Douglas Gregory, Executive Director, Gulf of Mexico Fishery Management Council; telephone: (813) 348-1630.

SUPPLEMENTARY INFORMATION: The agenda for the following nine hearings and one webinar are as follows: Council staff will brief the public on CMP Amendment 26—Changes in Allocations, Stock Boundaries and Sale Provisions for Gulf of Mexico and Atlantic Migratory Groups of King Mackerel; and a Framework Action to Modify Commercial Gear Requirements for Yellowtail Snapper (in Key West and Sarasota, FL only). Staff will then open the meeting for questions and public comments. The schedule is as follows:

Locations, Schedules, and Agendas

Monday, February 22, 2016; Amendment 26—Hilton Garden Inn, 6717 S. Padre Island Drive, Corpus Christi, TX 78412; telephone: (361) 991-8200; and Amendment 26—Hilton Garden Inn, 2703 Denny Avenue, Pascagoula, MS 39567; telephone: (228) 762-7182.

Tuesday, February 23, 2016; Amendment 26—Holiday Inn Express & Suites, 2440 Gulf Freeway, Texas City, TX 77591; telephone: (409) 986-6700; Amendment 26—Hilton Garden Inn, 23092 Perdido Beach Boulevard, Orange Beach, AL 36561; telephone: (251) 974-1600.

Wednesday, February 24, 2016; Amendment 26—Hilton New Orleans Airport, 901 Airline Drive, Kenner, LA 70062; telephone: (504) 469-5000; Amendment 26—Destin Community Center, 101 Stahlman Ave, Destin, FL 32541; telephone: (850) 654-5184.

Monday, February 29, 2016, Amendment 26—Harvey Government Center, 1200 Truman Avenue, Key West, FL 33040; telephone: (305) 292-4431.

Tuesday, March 1, 2016, Framework Action Yellowtail—Harvey Government Center, 1200 Truman Avenue, Key West, FL 33040; telephone: (305) 292-4431.

Wednesday, March 2, 2016, Amendment 26 and Framework Action—Holiday Inn Lakewood Ranch, 6231 Lake Osprey Drive, Sarasota, FL 34240; telephone: (941) 782-4400.

Thursday, March 3, 2016, Amendment 26—Webinar—6 p.m. EST at: https://attendee.gotowebinar.com/register/6934876394687175681. After registering, you will receive a confirmation email containing information about joining the webinar.

Special Accommodations

These meetings are physically accessible to people with disabilities. Requests for sign language interpretation or other auxiliary aids should be directed to Kathy Pereira (see ADDRESSES), at least 5 working days prior to the meeting date.

Authority: 16 U.S.C. 1801 et seq.

Dated: February 1, 2016.
Tracey L. Thompson,
Acting Deputy Director, Office of Sustainable Fisheries, National Marine Fisheries Service.

[FR Doc. 2016-02110 Filed 2-3-16; 8:45 am]

BILLING CODE 3510-22-P